DEPARTMENT OF VETERANS AFFAIRS

Fund Availability Under the VA Homeless Providers Grant and Per Diem Program

AGENCY: Department of Veterans Affairs.

ACTION: Notice.

SUMMARY: The Department of Veterans Affairs is announcing the availability of funds of operational assistance under the per diem component of VA's Homeless Providers Grant and Per Diem Program. Specifically, programs or components or programs that have not previously applied for or received per diem in connection with a grant under VA's Homeless Providers Grant and Per Diem Program are eligible. This Notice contains information concerning the program, application process, and amount of funding available.

DATES: An original completed and collated per diem application (plus two completed collated copies) for assistance under the VA Homeless Providers Grant and Per Diem Program must be received in Mental Health Strategic Healthcare Group, Washington, DC, by 4:00 PM Eastern Time on March 29, 2000. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays or other delivery-related problems.

FOR A COPY OF THE APPLICATION PACKAGE, CONTACT: The Grant and Per Diem Program at (toll-free) 1-877-332-0334. For a document relating to the VA Homeless Providers Grant and Per Diem Program, see the final rule codified at 38 CFR Part 17.700.

Submission of Application: An original completed and collated per diem application (plus two copies) must be submitted to the following address: Mental Health Strategic Healthcare Group (116E), Department of Veterans Affairs, 810 Vermont Avenue, NW, Washington, DC 20420. Applications must be received in the Mental Health Strategic Healthcare Group by the application deadline.

FOR FURTHER INFORMATION CONTACT: Roger Casey, VA Homeless Providers Grant and Per Diem Program, Mental Health Strategic Healthcare Group (116E), Department of Veterans Affairs, 810 Vermont Avenue, NW, Washington, DC 20420; (toll-free) 1-877-332-0334.

SUPPLEMENTARY INFORMATION: This Notice announces the availability of funds for assistance under VA's Homeless Providers Grant and Per Diem Program for eligible programs, established after November 10, 1992, or expanded after November 30, 1999, that have not previously applied for or received per diem in connection with a grant (see 38 CFR 17.716). This program is authorized by Public Law 102-590, the Homeless Veterans Comprehensive Service Programs Act of 1992, as amended. Funding applied for under this Notice may be used for aid for service centers and supportive housing. Funding will be in the form of per diem payments issued to eligible entities for an expected period not to exceed 24 months, subject to availability of funds. For eligibility criteria please refer to 38 CFR Part 17.716.

Authority: VA's Homeless Providers Grant and Per Diem Program is authorized by sections 3 and 4 of Public Law 102-590, the Homeless Veterans Comprehensive Service Programs Act of 1992 (38 U.S.C 7721 note) and has been extended through fiscal year 2003 by Public Law 106-117. The program is implemented by the final rule codified at 38 CFR Part 17.700. The final rule was published in the Federal Register on June 1, 1994, and February 27, 1995, and revised February 11, 1997. The regulations can be found in their entirely in 38 CFR, Volume 1, Sec. 17.700 through 17.731. Funds made available under this Notice are subject to the requirements of those regulations.

Allocation

Approximately $5.0 million is available for the per diem component of this program. This funding is expected to be available for a maximum of 24 months, subject to the availability of funds. Nationally, this funding should create approximately 1,500 additional community-based beds for homeless veterans. In later years, continued payment is subject to availability of funds.

Application Requirements

The specific per diem application requirements will be specified in the application package. The package includes all required forms and certifications. Conditional selections will be made based on criteria described in the application. Applicants who are conditionally selected will be notified of the additional information needed to confirm or clarify information provided in the application. Applicants will then have approximately one month to submit such information. If an applicant is unable to meet any conditions for per diem award within the specified time frame, VA reserves the right to not award funds and to use the funds available for other applicants. Grant recipients need not reapply for per diem for programs covered by the grant. Per Diem for these programs is requested in the grant application and paid at the time of grant project completion. However, if such entities desire per diem for programs not funded by a grant award under VA's Homeless Providers Grant and Per Diem Program, an application responding to this NOFA is required.

Dated: January 31, 2000.
Togo D. West, Jr.,
Secretary of Veterans Affairs.

[FR Doc. 00-2968 Filed 2-8-00; 8:45 am]

BILLING CODE 8320-01-M